DEPARTMENT OF COMMERCE

National Institute of Standards and Technology

Notice of Prospective Grant of Exclusive Patent License

AGENCY: National Institute of Standards and Technology, Commerce.

ACTION: Notice of Prospective Grant of Exclusive Patent License.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 6,168,755 (Application No. 09/321/113), titled “High Nitrogen Stainless Steel,” NIST Docket No. 98-025 to Carpenter Technology Corporation Inc., having a place of business at 101 West Bern Street, Reading, PA 19601. The grant of the license would be for the field of use: Biomedical Applications.

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7. The availability of the invention for licensing was published in the Federal Register on February 16, 2000.

U.S. Patent No. 6,168,755 is owned by the U.S. government, as represented by the Secretary of Commerce. The patent involves a high nitrogen stainless steel alloy and alloy powder comprising chromium (Cr), molybdenum (Mo), manganese (Mn), nickel (Ni), nitrogen (N) and iron (Fe). The composition of the stainless steel alloy and powder comprises between about 27 and about 30% by weight Cr, between about 1.5 and about 4.0% by weight Mo, Mn present and is present in an amount up to 15% by weight, at least about 8% by weight Ni, and about 0.8 to about 0.97% by weight N with the balance being iron. It has been discovered that forming an alloy of this chemistry using nitrogen gas atomization process, followed by a consolidation process, the alloy is less likely to form detrimental ferrite, stable nitride and sigma (.sigma.) phases, without the need for further processing, such as solution treating and quenching. This allows for the formation of stainless steel articles having a thicker cross-section with reduced processing cost.

Dated: May 28, 2008.
Richard F. Kayser,
Chief Scientist.

[FR Doc. E8-12400 Filed 6-2-08; 8:45 am]

BILLING CODE 3510-13-P